DEPARTMENT OF AGRICULTURE

Submission for OMB Review; Comment Request

June 21, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal & Plant Health Inspection Service

Title: Importation of Poultry Meat and Other Poultry Products from Sinaloa and Sonora, Mexico; Poultry and Pork Transiting the United States from Mexico.

OMB Control Number: 0579-0144.

Summary of Collection: The Animal Health Protection Act of 2002 (Title X, Subtitle E, Sec. 10401-18 of PL 107-171) is the primary Federal law governing the protection of animal health. Disease prevention is the most effective method for maintaining a healthy animal population and for enhancing the U.S. Department of Agriculture's Animal and Plant Health Inspection Service (APHIS), Veterinary Services' ability to allow United States animal producers to compete in the world market of animal and animal product trade. APHIS currently has regulations in place that restrict the importation of poultry meat and other poultry products from Mexico due to the presence of Newcastle Disease (ND) in that country. However, APHIS allows the importation of poultry meat and poultry products from the Mexican States of Sinaloa and Sonora because APHIS has determined that poultry meat and products from these two Mexican States pose a negligible risk of introducing ND into the United States. To ensure that these items are safe for importation, APHIS requires that certain data appear on the foreign meat inspection certificate that accompanies the poultry meat and other poultry products from Sinaloa and Sonora to the United States. APHIS also requires that serial numbered seals be applied to containers carrying the poultry meat and other poultry products. In addition, there is an application and approval process required for the transit of pork and pork products and poultry carcasses, parts, or products (except eggs and egg products). APHIS also requires a pre-arrival notification to alert Customs & Boarder Protection Inspectors, along with an emergency action notice.

Need and Use of the Information: APHIS will collect information to certify that the poultry meat or other poultry products were (1) derived from poultry born and raised in commercial breeding establishments in Sinaloa and Sonora; (2) derived from poultry that were slaughtered in Sinaloa or Sonora in a Federally-inspected slaughter plant approved to export these commodities to the united States in accordance with Food Safety & Inspection regulations; (3) processed at a Federally inspected processing plant in Sinaloa or Sonora; and (4) kept out of contact with poultry from any other State within Mexico. APHIS will also collect information to ensure that the poultry meat or poultry products from Sinaloa and Sonora pose the most negligible risk possible for introducing ND into the United States. If the information was collected less frequently or not collected at all, it would significantly cripple APHIS' ability to ensure that various commodities from certain Mexican States pose a negligible risk of introducing CSF or ND into the United States. This lack of information would make a disease incursion event much more likely and could seriously harm the U.S. pork and poultry industries.

Description of Respondents: Business or other for-profit; Federal Government.

Number of Respondents: 79.

Frequency of Responses: Reporting: On occasion.

Total Burden Hours: 3,219.

Animal and Plant Health Inspection Service

Title: Approval of Laboratories for Conducting Aquatic Animal Tests for Export Health Certificates.

OMB Control Number: 0579-0429.

Summary of Collection: The Animal Health Protection Act (APHA) of 2002 is the primary Federal law governing the protection of animal health. The AHPA gives the Secretary of Agriculture broad authority to detect, control, or eradicate pests or diseases of livestock or poultry. The Secretary may also prohibit or restrict import or export of any animal or related material if necessary, to prevent the spread of any livestock or poultry pest or disease. Disease prevention is the most effective method for maintaining a healthy animal population and enhancing the ability of U.S. producers to compete in the global market of animal and animal product trade. Animal and Plant Health Inspection Service (APHIS) regulations do not require APHIS approval or certification for laboratories conducting disease tests for the export of aquaculture animals. However, as a condition of entry, some countries require testing results from a laboratory approved by the competent authority, in this case APHIS. State, university, and private laboratories can voluntarily seek approval to test for specific diseases. APHIS provides laboratory approval as a service to U.S. exporters who ship aquaculture animals to countries requiring this certification. The AHPA is contained in Title X, Subtitle E, Sections 10401-18 of Public Law 107-171, May 13, 2002, the Farm Security and Rural Investment Act of 2002.

Need and Use of the Information: The approval of laboratories to conduct tests for the export of aquaculture animals requires the use of certain information collection activities including notification of intent to request approval, application for APHIS approval, protocol statement, submission and recordkeeping of sample copies of diagnostic reports, quality assurance/control plans and their recordkeeping, notification of proposed changes to assay protocols, recordkeeping of supporting assay documentation, and request for removal of approved status. If APHIS did not collect this information, U.S. producers would be prevented from exporting aquaculture animals and products to countries that specifically require APHIS approved laboratories to certify they have performed aquatic animal pathogen detection procedures.

Description of Respondents: Business or other for-profits; State, Local or Tribal Government.

Number of Respondents: 8.

Frequency of Responses: Reporting: On occasion.

Total Burden Hours: 1,462.

Ruth Brown,
Departmental Information Collection Clearance Officer.

[FR Doc. 2021-13259 Filed 6-23-21; 8:45 am]

BILLING CODE 3410-34-P